DEPARTMENT OF ENERGY

Federal Energy Regulatory Commission

[Project No. 2524-021]

Grand River Dam Authority; Notice of Application Tendered for Filing With the Commission and Establishing Procedural Schedule for Licensing and Deadline for Submission of Final Amendments

Take notice that the following hydroelectric application has been filed with the Commission and is available for public inspection.

a. Type of Application: New Major License.

b. Project No.: P-2524-021.

c. Date Filed: November 27, 2013.

d. Applicant: Grand River Dam Authority.

e. Name of Project: Salina Pumped Storage Project.

f. Location: The existing project is located on the Saline Creek arm of Lake Hudson in the Grand River basin in Mayes County, Oklahoma. The project does not affect federal lands.

g. Filed Pursuant to: Federal Power Act, 16 U.S.C. 791(a)-825(r).

h. Applicant Contact: Dr. Darrell Townsend, P.O. Box 70, Langley, Oklahoma, 74350-0070; (918) 256-0616; dtownsend@grda.com.

i. FERC Contact: Stephen Bowler, (202) 502-6861, or stephen.bowler@ferc.gov.

j. This application is not ready for environmental analysis at this time.

k. Description of Existing Project Facilities: The existing Salina Pumped Storage Project consists of: (1) The 762-acre W.R. Holway Reservoir (the upper reservoir), with a normal pool elevation between 850 feet and 865 feet National Geodetic Vertical Datum; (2) three rim dikes around the upper reservoir; (3) an 1,800-foot-long concrete-lined canal; (4) a 336-foot-wide, 62-foot-high forebay structure; (5) a 2,300-foot-long, 185-foot-high earthen dam; (6) six 14-foot-diameter penstocks, each between 630 and 680 feet long; (7) a powerhouse with six reversible pump-turbine units, each rated at 43.3 megawatt (MW), for a total installed capacity of 260 MW; (8) a substation; (9) an approximately 6-mile-long, 161-kilovolt transmission line; and (10) appurtenant facilities. The project utilizes Lake Hudson (the lower reservoir), which is the reservoir for the Grand River Dam Authority's Markham Ferry Project No. 2183, for pumped storage operations.

l. Locations of the Application: A copy of the application is available for review at the Commission in the Public Reference Room, or may be viewed on the Commission's Web site at http://www.ferc.gov using the “eLibrary” link. Enter the docket number, excluding the last three digits in the docket number field, to access the document. For assistance, contact FERC Online Support at FERCOnlineSupport@ferc.gov, or toll-free at 1-866-208-3676, or for TTY, (202) 502-8659. Copies are also available for inspection and reproduction at the public libraries in Vinita and Salina, Oklahoma, and at the Administrative Headquarters of the Grand River Dam Authority at 226 W. Dwain Willis Avenue, Vinita, Oklahoma.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | January 2014.
Filing of recommendations, preliminary terms and conditions, and fishway prescriptions | March 2014.
Commission issues Draft EA | September 2014.
Comments on Draft EA | October 2014.
Modified Terms and Conditions | December 2014.
Commission Issues Final EA | March 2015.

o. Final amendments to the application must be filed with the Commission no later than 30 days from the issuance date of the notice of ready for environmental analysis.

Dated: December 11, 2013.
Kimberly D. Bose,
Secretary.

[FR Doc. 2013-30037 Filed 12-17-13; 8:45 am]

BILLING CODE 6717-01-P